NATIONAL ARCHIVES AND RECORDS ADMINISTRATION

Office of Government Information Services (OGIS)

[NARA-2017-048]

Freedom of Information Act (FOIA) Advisory Committee; Meeting

AGENCY: National Archives and Records Administration (NARA).

ACTION: Notice of Federal Advisory Committee meeting.

SUMMARY: In accordance with the Federal Advisory Committee Act and the second United States Open Government National Action Plan (NAP) released on December 5, 2013, NARA announces an upcoming Freedom of Information Act (FOIA) Advisory Committee meeting.

DATES: The meeting will be on July 20, 2017, from 10:00 a.m. to 1:00 p.m. EDT. You must register for the meeting by 5:00 p.m. EDT on July 18, 2017.

LOCATION: National Archives and Records Administration (NARA); 700 Pennsylvania Avenue NW., William G. McGowan Theater, Washington, DC 20408.

FOR FURTHER INFORMATION CONTACT: Amy Bennett, Designated Federal Officer for this committee, by mail at National Archives and Records Administration; Office of Government Information Services; 8601 Adelphi Road—OGIS; College Park, MD 20740-6001, by telephone at 202-741-5770, or by email at foia-advisory-committee@nara.gov.

SUPPLEMENTARY INFORMATION: Agenda and meeting materials: You may find all meeting materials at https://ogis.archives.gov/foia-advisory-committee/2016-2018-term/Meetings.htm. This will be the fifth meeting of the second committee term. The purpose of this meeting is to review the work of the committee's three subcommittees. https://ogis.archives.gov/foia-advisory-committee/2016-2018-term/Subcommittees.htm.

Procedures: The meeting is open to the public. Due to access restrictions, you must register in advance if you wish to attend the meeting. You will also go through security screening when you enter the building. Registration for the meeting will go live via Eventbrite on June 30, 2017, at 10:00 a.m. EDT. To register for the meeting, please do so at this Eventbrite link: https://www.eventbrite.com/e/freedom-of-information-act-foia-advisory-committee-meeting-july-20-2017-registration-30857353174.

This program will be live-streamed on the U.S. National Archives' YouTube channel, https://www.youtube.com/user/usnationalarchives/playlists. The webcast will include a captioning option. To request additional accommodations (e.g., a transcript), email foia-advisory-committee@nara.gov or call 202-741-5770. Members of the media who wish to register, those who are unable to register online, and those who require special accommodations, should contact Amy Bennett at the phone number, mailing address, or email address listed above.

Patrice Little Murray,
Committee Management Officer.

[FR Doc. 2017-12120 Filed 6-9-17; 8:45 am]

BILLING CODE 7515-01-P